DEPARTMENT OF THE INTERIOR

Bureau of Indian Affairs

[AAK6006201 156A2100DD AOR3030.999900]

Intent To Prepare an Environmental Impact Statement for the Proposed Coquille Indian Tribe Fee-to-Trust and Casino Project, City of Medford, Jackson County, Oregon

AGENCY: Bureau of Indian Affairs, Interior.

ACTION: Notice.

SUMMARY: This notice advises the public that the Bureau of Indian Affairs (BIA) as lead agency intends to gather information necessary for preparing an Environmental Impact Statement (EIS) pursuant to the National Environmental Policy Act (NEPA) in connection with the Coquille Indian Tribe's (Tribe) application for a proposed 2.4-acre fee-to-trust transfer and casino project to be located in the City of Medford, Jackson County, Oregon. This notice also announces the beginning of the public scoping process to solicit public comments and identify issues.

DATES: Written comments on the scope of the EIS must arrive by February 17, 2015. The date of a public scoping meeting will be announced at least 15 days in advance through a notice to be published in the local newspaper, the Mail Tribune, and posted at www.coquilleeis.com.

ADDRESSES: You may mail or hand-deliver written comments to Mr. Stanley Speaks, Northwest Regional Director, Bureau of Indian Affairs, Northwest Region, 911 Northeast 11th Avenue, Portland, Oregon 97232-4165. Please include your name, return address, and “DEIS Scoping Comments, Coquille Indian Tribe Fee-to-Trust and Casino Project” on the first page of your written comments. The location of a public scoping meeting will be announced at least 15 days in advance through a notice to be published in the local newspaper, the Mail Tribune, and posted at www.coquilleeis.com.

FOR FURTHER INFORMATION CONTACT: Dr. BJ Howerton, Bureau of Indian Affairs, Northwest Regional Office, 911 Northeast 11th Avenue, Portland, Oregon 97232; fax (503) 231-2275; phone (503) 231-6749.

SUPPLEMENTARY INFORMATION: The Tribe has submitted an application to the BIA requesting that approximately 2.4 acres of land be transferred from fee to trust status (Proposed Action), upon which the Tribe would renovate an existing bowling alley to convert it into a gaming facility. In order for the Department to fully consider and either grant or deny the Tribe's application, the Department must first comply with NEPA.

The proposed fee-to-trust property is located within the incorporated boundaries of the City of Medford, Oregon, adjacent to the northeastern boundary of Highway 99, between Charlotte Ann Lane and Lowry Lane. The Tribe's stated purpose of the Proposed Action is to improve the economic status of the Tribe so it can better provide housing, health care, education, cultural programs, and other services to its members. Adjacent fee land would be used for parking.

The Proposed Action encompasses the various federal approvals which may be required to implement the Tribe's proposed economic development project, including approval of the Tribe's fee-to-trust application. The EIS will identify and evaluate issues related to these approvals.

Areas of environmental concern identified for analysis in the EIS include land resources; water resources; air quality; noise; biological resources; cultural/historical/archaeological resources; resource use patterns; traffic and transportation; public health and safety; hazardous materials and hazardous wastes; public services and utilities; socioeconomics; environmental justice; visual resources/aesthetics; and cumulative, indirect, and growth-inducing effects. The range of issues and alternatives to be addressed in the EIS may be expanded or reduced based on comments received in response to this notice and at the public scoping meeting. Additional information, including a map of the project site, is available by contacting the person listed in the FOR FURTHER INFORMATION CONTACT section of this notice.

Public Comment Availability: Comments, including names and addresses of respondents, will be available for public review at the BIA address shown in the ADDRESSES section, during regular business hours, 8 a.m. to 4:30 p.m., Monday through Friday, except holidays. Before including your address, phone number, email address, or other personal identifying information in your comment, you should be aware that your entire comment—including your personal identifying information—may be made publicly available at any time. While you can ask in your comment that your personal identifying information be withheld from public review, the BIA cannot guarantee that this will occur.

Authority: This notice is published in accordance with sections 1503.1 and 1506.6 of the Council on Environmental Quality Regulations (40 CFR parts 1500 through 1508) implementing the procedural requirements of the National Environmental Policy Act of 1969, as amended (42 U.S.C. 4321-4345 et seq.), and the Department of the Interior Manual (516 DM 1-6), and is in the exercise of authority delegated to the Assistant Secretary—Indian Affairs by 209 DM 8.1.

Dated: January 8, 2015.
Kevin K. Washburn,
Assistant Secretary—Indian Affairs.

[FR Doc. 2015-00550 Filed 1-14-15; 8:45 am]

BILLING CODE 4337-2A-P